DEPARTMENT OF COMMERCE

International Trade Administration

[A-475-828]

Stainless Steel Butt-Weld Pipe Fittings From Italy; Extension of Time Limit for Preliminary Results of Antidumping Duty Administrative Review

AGENCY: Import Administration, International Trade Administration, Department of Commerce.

DATES: Effective Date: October 31, 2011.

FOR FURTHER INFORMATION CONTACT: Edythe Artman or Angelica Mendoza, AD/CVD Operations, Office 7, Import Administration, International Trade Administration, U.S. Department of Commerce, 14th Street and Constitution Avenue NW., Washington, DC 20230; telephone: (202) 482-3931 or (202) 482-3019, respectively.

SUPPLEMENTARY INFORMATION:

Background

On March 31, 2011, the Department of Commerce (the Department) published the initiation of the administrative review of the antidumping duty order on stainless steel butt-weld pipe fittings from Italy in the Federal Register. See Initiation of Antidumping Duty Administrative Reviews, Requests for Revocation in Part, and Deferral of Administrative Review, 76 FR 17825 (March 31, 2011). This review covers the period of February 1, 2010, to January 31, 2011. The current deadline for the preliminary results of the review is October 31, 2011.

Extension of Time Limits for Preliminary Results of Review

Section 751(a)(3)(A) of the Tariff Act of 1930, as amended (the Act), requires that the Department complete the preliminary results of an administrative review within 245 days after the last day of the anniversary month of an order for which a review is requested. However, if it is not practicable to complete the review within this time period, section 751(a)(3)(A) of the Act allows the Department to extend the 245-day time period for the preliminary results up to 365 days.

The Department finds that it is not practicable to complete the preliminary results of this review within the original time frame because it needs to obtain additional information from the respondent company, Tectubi Raccordi S.p.A., in order to complete its analysis. Because the Department requires additional time to obtain and analyze this information, it is not practicable to complete this review within the original time limit (i.e., October 31, 2011) and, accordingly, the Department is extending the time limit for completion of the preliminary results of this administrative review until no later than December 15, 2011, which is 290 days from the last day of the anniversary month of this order. We intend to issue the final results no later than 120 days after publication of the preliminary results notice.

This extension is issued and published in accordance with sections 751(a)(3)(A) and 777(i) of the Act.

Dated: October 24, 2011.
Christian Marsh,
Deputy Assistant Secretary for Antidumping and Countervailing Duty Operations.

[FR Doc. 2011-28185 Filed 10-28-11; 8:45 am]

BILLING CODE 3510-DS-P